DEPARTMENT OF AGRICULTURE

Forest Service

Southwest Mississippi Resource Advisory Committee

AGENCY: Forest Service, USDA.

ACTION: Notice of meeting.

SUMMARY: The Southwest Mississippi Resource Advisory Committee (RAC) will meet in Meadville, Mississippi. The committee is authorized under the Secure Rural Schools and Community Self-Determination Act (the Act) and operates in compliance with the Federal Advisory Committee Act. The purpose of the committee is to improve collaborative relationships and to provide advice and recommendations to the Forest Service concerning projects and funding consistent with the Act. RAC information can be found at the following Web site: https://www.fs.usda.gov/mississippi/.

DATES: The meeting will be held on August 23, 2017, at 6:00 p.m.

All RAC meetings are subject to cancellation. For status of meeting prior to attendance, please contact the person listed under FOR FURTHER INFORMATION CONTACT.

ADDRESSES: The meeting will be held at Franklin County Public Library, 106 First Street, Meadville, Mississippi.

Written comments may be submitted as described under SUPPLEMENTARY INFORMATION. All comments, including names and addresses when provided, are placed in the record and are available for public inspection and copying. The public may inspect comments received at Homochitto Ranger District. Please call ahead to facilitate entry into the building.

FOR FURTHER INFORMATION CONTACT: Bill Meriwether by phone at 601-384-5876 or via email at bdmeriwether@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Call to order and welcome new members,

2. Elect a new chairperson,

3. Updates on RAC,

4. Title II Funds availabile for projects,

5. Discussion project proposals and make recommendations, and

6. Public comments.

The meeting is open to the public. The agenda will include time for people to make oral statements of three minutes or less. Individuals wishing to make an oral statement should request in writing by August 18, 2017, to be scheduled on the agenda. Anyone who would like to bring related matters to the attention of the committee may file written statements with the committee staff before or after the meeting. Written comments and requests for time to make oral comments must be sent to Bill Meriwether, RAC Coordinator, Homochitto Ranger District, 1200 Highway 184 East, Meadville, Mississippi 39653; by email to bdmeriwether@fs.fed.us, or via facsimile to 601-384-2172.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Leslie Weldon,
Deputy Chief, National Forest System.

[FR Doc. 2017-14415 Filed 7-10-17; 8:45 am]

BILLING CODE 3411-15-P